DEPARTMENT OF ENERGY

10 CFR Part 810

RIN 1994-AA05

Assistance to Foreign Atomic Energy Activities

AGENCY: National Nuclear Security Administration (NNSA), Department of Energy (DOE).

ACTION: Extension of public comment period.

SUMMARY: The U.S. Department of Energy (“DOE”) is extending the public comment period for its proposed rule establishing procedures for the imposition of civil penalties for violations of certain provisions of the Atomic Energy Act of 1954 (AEA). The notice of proposed rulemaking (NOPR) provided for a public comment period ending November 4, 2019. On October 18, 2019 DOE received a comment requesting a 90-day comment period extension and a public meeting. DOE is extending the public comment period for submitting comments on the NOPR by 30 days to December 4, 2019.

DATES: The comment period for the proposed rulemaking published on October 3, 2019, 84 FR 52819, is extended. Comments, data, and information regarding this rulemaking must be submitted no later than December 4, 2019.

ADDRESSES: Interested persons may submit comments, identified by RIN 1994-AA05, by any of the following methods:

1. Federal Rulemaking Portal: http://www.regulations.gov. Follow the instructions for submitting comments.

2. Email: Part810@nnsa.doe.gov. Include RIN 1994-AA05 in the subject line of the message.

3. Mail: Katie Strangis, Office of Nonproliferation and Arms Control, NA-24, National Nuclear Security Administration, Department of Energy, 1000 Independence Avenue SW, Washington, DC 20585. Due to potential delays in DOE's receipt and processing of mail sent through the U.S. Postal Service, DOE encourages responders to submit comments electronically to ensure timely receipt.

All submissions must include the RIN for this rulemaking, RIN 1994-AA05. For detailed instructions on submitting comments and additional information on the rulemaking process, see the “Public Comment Procedures” heading of the SUPPLEMENTARY INFORMATION section of the NOPR at 84 FR 52822. For access to the docket to read background documents, or comments received, go to the Federal Rulemaking Portal at https://www.regulations.gov/document?D=DOE_FRDOC_0001-3863.

FOR FURTHER INFORMATION CONTACT: Ms. Katie Strangis, Senior Policy Advisor, Office of Nonproliferation and Arms Control (NPAC), National Nuclear Security Administration, Department of Energy, 1000 Independence Avenue SW, Washington, DC 20585, telephone (202) 586-8623 or email Katie.Strangis@nnsa.doe.gov; Mr. Thomas Reilly, Office of the General Counsel, GC-53, Department of Energy, 1000 Independence Avenue SW, Washington, DC 20585, telephone (202) 586-3417; or Mr. Zachary Stern, Office of the General Counsel, National Nuclear Security Administration, Department of Energy, 1000 Independence Avenue SW, Washington, DC 20585, telephone (202) 586-8627.

SUPPLEMENTARY INFORMATION: On October 3, 2019, DOE published a NOPR in the Federal Register (84 FR 52819) to propose procedures for the imposition of civil penalties for violations of the provisions of the Atomic Energy Act of 1954 (AEA) that restrict participation by U.S. persons in the development or production of special nuclear material outside of the United States. The proposed procedures would be incorporated in the DOE regulations on Assistance to Foreign Atomic Energy Activities (10 CFR part 810). Comments on the proposed procedures were due by November 4, 2019. On October 18, 2019, DOE received a comment from Nuclear Energy Institute (NEI) requesting a 90-day comment period extension. DOE has reviewed the NEI request and considered the benefit to the public in providing additional time for comments on the NOPR. DOE has also considered the fact that timely implementation of this rule is important for national security, since the proposed civil penalties procedures would serve to deter illicit transfers of controlled nuclear technology and assistance.

Accordingly, DOE has determined that an extension of the comment period is appropriate and is hereby extending the comment period by 30 days, until December 4, 2019. DOE has determined to not hold a public meeting because the resources necessary to do so are greater than the benefit that could be achieved. DOE assesses that a 30 day extension strikes an appropriate balance between the requestor's desire for additional time and the national security benefits of implementing this rulemaking on a timely basis.

Signed in Washington, DC, on October 25, 2019.
Sean Oehlbert,
Director, Office of Nonproliferation Policy.

[FR Doc. 2019-23922 Filed 11-1-19; 8:45 am]

BILLING CODE 6450-01-P